DEPARTMENT OF LABOR

Employee Benefits Security Administration

29 CFR Part 2550

RIN 1210-AC33

Selection of Annuity Providers—Safe Harbor for Individual Account Plans; Withdrawal

AGENCY: Employee Benefits Security Administration, U.S. Department of Labor.

ACTION: Direct final rule; withdrawal.

SUMMARY: Due to the receipt of significant adverse comments, the Department of Labor (Department) is withdrawing the July 1, 2025 direct final rule (DFR) published at 90 FR 28007.

DATES: Effective August 11, 2025, the DFR published at 90 FR 28007 on July 1, 2025, is withdrawn.

FOR FURTHER INFORMATION CONTACT: Jason DeWitt, Office of Regulations and Interpretations, Employee Benefits Security Administration, (202) 693-8500. This is not a toll-free number. Individuals with hearing or speech impairments may access the telephone number above by TTY by calling the toll-free Federal Information Relay Service at (800) 877- 8339.

SUPPLEMENTARY INFORMATION: In the DFR, the Department stated that if significant adverse comments (as defined in the DFR) were received by July 31, 2025, the Department would publish a timely notification in the Federal Register before the effective date either withdrawing the DFR or issuing a new final rule which responds to significant adverse comments. The Department received significant adverse comments and, therefore, withdraws the DFR.

Signed at Washington, DC, this 8th day of August 2025.
Janet Dhillon,
Acting Assistant Secretary, Employee Benefits Security Administration, U.S. Department of Labor.

[FR Doc. 2025-15288 Filed 8-11-25; 8:45 am]

BILLING CODE 4510-29-P